Proclamation 9982 of January 24, 2020

National School Choice Week, 2020

By the President of the United States of America

A Proclamation

Each child is a gift from God who has boundless potential and deserves a fair shot at the American Dream. To have that fair shot, children and their families must be free to pursue an educational environment that matches their individual learning style, develops their unique talents, and prepares them with the knowledge and character needed for fulfilling and productive lives. During National School Choice Week, we ensure America's brightest days are ahead by again committing to fighting for every student's freedom to pursue the best possible education.

Sadly, for decades, we have tolerated an education system that continues to fail too many children. At a time when our students need the skills to succeed in an ever-changing world, the “Nation's Report Card” shows that about two-thirds of our children are not Proficient readers. That means nearly two out of three students are not where they need to be. Our great Nation can no longer accept a two-tiered education system in which opportunity is decided by a child's neighborhood.

The success of future generations determines the success of our Nation. With school choice, we can ensure the underserved children of our Nation are forgotten no more.

Education freedom helps inspire and educate students by providing a learning environment that best fits their unique needs, and it allows families to make choices based on their individual situations. A growing number of States and their communities are taking bold action to ensure all students, regardless of background or socioeconomic status, can receive a great education. I applaud State, local, and tribal leaders who are actively working to empower more families with educational choice. The expansion of school choice, including out-of-district public, charter, magnet, private, religious, home, and online education programs, has provided life-changing opportunities to millions of students.

My Administration is protecting and building upon efforts to expand access to a wide range of high-quality education options. Today, I renew my call on the Congress to focus on what is best for children and pass a Federal tax credit to support State-based educational choice programs. Through this historic investment, more than one million more students will receive an education that meets their needs, all without taking a single dollar from America's great public schools. I also renew the call for the Congress to expand and make permanent the highly successful DC Opportunity Scholarship Program, which has achieved historic success under my Administration.

Education can open any door. During this National School Choice Week, we are heartened by the many students whose lives have been changed by the freedom to make their own educational choices. And we are motivated to continue to advance educational choice by the millions who are still denied the opportunity to choose the educational path that best meets their needs. We challenge all lawmakers to work to ensure that every child has the opportunity to fulfill their potential and achieve the American Dream.

NOW, THEREFORE, I, DONALD J. TRUMP, President of the United States of America, by virtue of the authority vested in me by the Constitution and the laws of the United States, do hereby proclaim January 26 to February 1, 2020, as National School Choice Week.

IN WITNESS WHEREOF, I have hereunto set my hand this twenty-fourth day of January, in the year of our Lord two thousand twenty, and of the Independence of the United States of America the two hundred and forty-fourth.

[FR Doc. 2020-01817

Filed 1-28-20; 11:15 am]

Billing code 3295-F0-P